DEPARTMENT OF LABOR

Occupational Safety and Health Administration

[Docket No. OSHA-2017-0004]

Maritime Advisory Committee for Occupational Safety and Health (MACOSH): Notice of MACOSH Charter Renewal

AGENCY: Occupational Safety and Health Administration (OSHA), Labor.

ACTION: Notice of renewal of the MACOSH charter.

SUMMARY: In accordance with the provisions of the Federal Advisory Committee Act (FACA), and after consultation with the General Services Administration, the Secretary of Labor is renewing the charter for the Maritime Advisory Committee for Occupational Safety and Health (MACOSH). The Committee will provide OSHA with expertise related to the Occupational Safety and Health Act (the OSH Act) of 1970. The term of the most recent MACOSH membership expired on January 20, 2018. A request for nominations notice was published in the Federal Register (83 FR 54147 (10/26/2018)). OSHA will publish a list of MACOSH members in the Federal Register.

For Additional Information Contact

For press inquiries: Mr. Frank Meilinger, Director, OSHA Office of Communications, U.S. Department of Labor; telephone: (202) 693-1999; email: meilinger.francis2@dol.gov.

For general information about MACOSH: Ms. Amy Wangdahl, Director, Office of Maritime and Agriculture, OSHA, U.S. Department of Labor; telephone: (202) 693-2066; email: wangdahl.amy@dol.gov.

For copies of this Federal Register notice: Electronic copies of this Federal Register notice are available at http://www.regulations.gov. This notice, as well as news releases and other relevant information, are also available at OSHA's web page at: www.osha.gov.

SUPPLEMENTARY INFORMATION: The maritime industry includes shipyard employment, longshoring, marine terminal, and other related industries, e.g., commercial fishing and shipbreaking. The Secretary of Labor appoints MACOSH members to create a broad-based, balanced, and diverse committee reflecting these aspects of the maritime industry. Members represent a range of perspectives and include employers, employees, safety and health professional organizations, government organizations with interests or activities related to the maritime industry, academia, and the public. Members are selected based on their experience, knowledge, and competence in the field of occupational safety and health, particularly in the maritime industries.

The Committee will advise OSHA on matters relevant to the safety and health of employees in the maritime industry. This includes advice on maritime issues that will result in more effective enforcement, training, and outreach programs, and streamlined regulatory efforts. The Committee will function solely as an advisory body in compliance with the provisions of FACA and OSHA's regulations covering advisory committees (29 CFR part 1912).

Authority and Signature

Loren Sweatt, Deputy Assistant Secretary of Labor for Occupational Safety and Health, authorized the preparation of this notice under the authority granted by 29 U.S.C. 655(b)(1) and 656(b), 5 U.S.C. App. 2, Secretary of Labor's Order No. 1-2012 (77 FR 3912), and 29 CFR part 1912.

Signed at Washington, DC, on December 10, 2018.
Loren Sweatt,
Deputy Assistant Secretary of Labor for Occupational Safety and Health.

[FR Doc. 2018-27109 Filed 12-13-18; 8:45 am]

BILLING CODE 4510-26-P